DEPARTMENT OF ENERGY

FEDERAL ENERGY REGULATORY COMMISSION

[Docket No. RP00-601-001]

Dominion Transmission, Inc., Notice of Compliance Filing

March 7, 2001.

Take notice that on March 1, 2001, Dominion Transmission Inc. (DTI) tendered for filing as part of its FERC Gas Tariff, Third Revised Volume No. 1, the following revised tariff sheets, with a proposed effective date of April 1, 2001:

First Revised Sheet No. 1500

First Revised Sheet No. 1501

DTI states that this filing complies with the Commission's Order “Order on Filings to Establish Imbalance Netting and Trading Pursuant to Order Nos. 587-G and 587-L” issued October 27, 2000. In that order, the Commission directed DTI to provide an explanation of why a limitation on the “operational impact area” was necessary and under what circumstances the limitation would be imposed. The Commission also required DTI to remove tariff provisions providing for the imposition of transportation charges for imbalance netting and trading.

DTI states that copies of its letter of transmittal and enclosures have been served upon DTI's customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-6164 Filed 3-12-01; 8:45 am]

BILLING CODE 6717-01-M